NUCLEAR REGULATORY COMMISSION

[NRC-2011-0120]

Notice of Issuance of Bulletin 2011-01, Mitigating Strategies

AGENCY: U.S. Nuclear Regulatory Commission.

ACTION: Notice of Issuance.

SUMMARY: The U.S. Nuclear Regulatory Commission (NRC) has issued Bulletin 2011-01 to all holders of operating licenses for nuclear power reactors, except those who have permanently ceased operation and have certified that fuel has been removed from the reactor vessel. The NRC has issued this Bulletin to obtain a comprehensive verification of compliance with the regulatory requirements regarding the conditions of licenses.

DATES: The Bulletin was issued on May 11, 2011.

ADDRESSES: NRC Bulletin 2011-01: “Mitigating Strategies” is available through the NRC's Agencywide Documents Access and Management System (ADAMS) under Accession Number: ML111250360.

• NRC's Public Document Room (PDR): The public may examine and have copied, for a fee, publicly available documents at the NRC's PDR, O1-F21, One White Flint North, 11555 Rockville Pike, Rockville, Maryland 20852.

• NRC's Agencywide Documents Access and Management System (ADAMS): Publicly available documents created or received at the NRC are available online in the NRC Library at http://www.nrc.gov/reading-rm/adams.html. From this page, the public can gain entry into ADAMS, which provides text and image files of the NRC's public documents. If you do not have access to ADAMS or if there are problems in accessing the documents located in ADAMS, contact the NRC's PDR reference staff at 1-800-397-4209, 301-415-4737, or by e-mail to pdr.resource@nrc.gov.

FOR FURTHER INFORMATION CONTACT: Eric Bowman, Senior Project Manager, Generic Communications and Power Uprate Branch, Division of Policy and Rulemaking, Office of Nuclear Reactor Regulation, U.S. Nuclear Regulatory Commission. Telephone: 301-415-2963; e-mail: Eric.Bowman@nrc.gov.

SUPPLEMENTARY INFORMATION:

The NRC Has Issued This Bulletin for Three Purposes

1. To require that addressees provide a comprehensive verification of their compliance with the regulatory requirements of Title 10 of the Code of Federal Regulations (10 CFR) 50.54(hh)(2),

2. To notify addressees about the NRC staff's need for information associated with licensee mitigating strategies under 10 CFR 50.54(hh)(2) in light of the recent events at Japan's Fukushima Daiichi facility in order to determine if (1) Additional assessment of program implementation is needed, (2) the current inspection program should be enhanced, or (3) further regulatory action is warranted, and

3. To require that addressees provide a written response to the NRC in accordance with 10 CFR 50.54(f).

Dated at Rockville, Maryland, this 24th day of May 2011.
For the Nuclear Regulatory Commission.
Stacey Rosenberg,
Chief, Generic Communications and Power Uprate Branch, Division of Policy and Rulemaking, Office of Nuclear Reactor Regulation.

[FR Doc. 2011-13355 Filed 5-27-11; 8:45 am]

BILLING CODE 7590-01-P